DEPARTMENT OF STATE

[Public Notice: 9542]

Presidential Permits: Withdrawal of Request From Plains LPG Services, L.P. for Existing Pipeline Facilities on the Border of the United States and Canada Under the St. Clair River

AGENCY: Department of State.

ACTION: Notice of Withdrawal of Request for Re-Consideration Concerning the Scope of Authorizations by Plains LPG Services, L.P. for Existing Pipeline Facilities on the Border of the United States and Canada Under the St. Clair River.

SUMMARY: On May 23, 2014, the Department of State (Department) issued a Presidential Permit to Plains LPG Services, L.P. (Plains LPG) based on Plains LPG's acquisition of six existing pipelines under the St. Clair River. After the new permits were issued, Plains LPG provided new information that altered the Department's understanding of the historic authorization for two of the six St. Clair pipelines. In light of this additional information, the Department was revisiting Plains LPG's 2012 application and considering whether to issue a new permit for these two St. Clair pipelines that would authorize the transport of crude and other liquid hydrocarbons, superseding the authorization in the 2014 Presidential Permit for the transport of only light liquid hydrocarbons. The Department published the Notice of Re-Consideration Concerning the Scope of Authorizations in a Presidential Permit Issued to Plains LPG Services, L.P. in May 2014 for Existing Pipeline Facilities on the Border of the United States and Canada Under the St. Clair River on January 25, 2016 (81 FR 4081) (Notice) and solicited public comment for a 30-day period. The Department subsequently re-opened public comment on March 15, 2016 (81 FR 13871) for an additional 30 days. Plains LPG subsequently notified the Department that it no longer seeks reconsideration of the scope of the authorizations referenced in the Notice. The Department is therefore no longer considering whether to issue a new permit for the two St. Clair pipelines.

DATES: This action is effective on May 2, 2016.

FOR FURTHER INFORMATION CONTACT: Office of Energy Diplomacy, Energy Resources Bureau (ENR/EDP/EWA) Department of State 2201 C St. NW., Ste,. 4428, Washington, DC 20520, Attn: Sydney Kaufman, Tel: 202-647-2041. Email: kaufmans@state.gov.

SUPPLEMENTARY INFORMATION: Additional information related to the Department's review Presidential Permit applications, including information concerning the St. Clair pipeline facilities, can be found at http://www.state.gov/e/enr/applicant/applicants/index.htm.

Chris Davy,
Deputy Director, Energy Resources Bureau, Energy Diplomacy, Bureau of Energy Resources, U.S. Department of State.

[FR Doc. 2016-10226 Filed 4-29-16; 8:45 am]

BILLING CODE P